DEPARTMENT OF THE INTERIOR

National Park Service

[2253-665]

Notice of Intent To Repatriate a Cultural Item: Peabody Museum of Natural History, Yale University, New Haven, CT

AGENCY: National Park Service, Interior.

ACTION: Notice.

SUMMARY: The Peabody Museum of Natural History, Yale University, in consultation with the appropriate Indian tribe, has determined that the cultural item meets the definition of unassociated funerary object and repatriation to the Indian tribe stated below may occur if no additional claimants come forward. Representatives of any Indian tribe that believes itself to be culturally affiliated with the cultural item may contact the Peabody Museum of Natural History, Yale University.

DATES: Representatives of any Indian tribe that believes it has a cultural affiliation with the cultural item should contact the Peabody Museum of Natural History, Yale University at the address below by November 10, 2011.

ADDRESSES: Professor Derek E.G. Briggs, Director, Peabody Museum of Natural History, P.O. Box 208118, New Haven, CT 06520-8118, telephone (203) 432-3752.

SUPPLEMENTARY INFORMATION: Notice is here given in accordance with the Native American Graves Protection and Repatriation Act (NAGPRA), 25 U.S.C. 3005, of the intent to repatriate a cultural item in the possession of the Peabody Museum of Natural History, Yale University, New Haven, CT, that meets the definition of unassociated funerary object under 25 U.S.C. 3001.

This notice is published as part of the National Park Service's administrative responsibilities under NAGPRA, 25 U.S.C. 3003(d)(3). The determinations in this notice are the sole responsibility of the museum, institution, or Federal agency that has control of the cultural item. The National Park Service is not responsible for the determinations in this notice.

History and Description of the Cultural Item

In 1886, Mrs. Kate Foot Coe collected one chilkat blanket on Kiloosnoo Island, AK. On November 19, 1902, Mrs. Foot Coe donated it to the Peabody Museum of Natural History. The museum's catalog describes the blanket as being found in a “receptacle on the top of a totem pole containing the bones and ashes of a cremated body.” No human remains associated with this blanket are in the museum's collection.

The catalog description of the blanket indicates that it was collected from a funerary context and was in association with bones at the time that it was collected. Based on the collection location on Kiloosnoo Island in the Northwest Coast culture area, the recovery of the blanket from a grave pole, and the type of object (chilkat blanket), this item is believed to be culturally affiliated with the Central Council of the Tlingit & Haida Indian Tribes.

Determinations Made by the Peabody Museum of Natural History, Yale University

Officials of the Peabody Museum of Natural History, Yale University have determined that:

• Pursuant to 25 U.S.C. 3001(3)(B), the single cultural item described above is reasonably believed to have been placed with or near individual human remains at the time of death or later as part of the death rite or ceremony and is believed, by a preponderance of the evidence, to have been removed from a specific burial site of a Native American individual.

• Pursuant to 25 U.S.C. 3001(2), there is a relationship of shared group identity that can be reasonably traced between the unassociated funerary object and the Central Council of the Tlingit & Haida Indian Tribes.

Additional Requestors and Disposition

Representatives of any other Indian tribe that believes itself to be culturally affiliated with the unassociated funerary object should contact Professor Derek E.G. Briggs, Director, Peabody Museum of Natural History, P.O. Box 208118, New Haven, CT 06520-8118, telephone (203) 432-3752, before November 10, 2011. Repatriation of the unassociated funerary object to the Central Council of the Tlingit & Haida Indian Tribes may proceed after that date if no additional claimants come forward.

The Peabody Museum of Natural History, Yale University is responsible for notifying the Central Council of the Tlingit & Haida Indian Tribes that this notice has been published.

Dated: October 3, 2011.
Sherry Hutt,
Acting Manager, National NAGPRA Program.

[FR Doc. 2011-26179 Filed 10-7-11; 8:45 am]

BILLING CODE 4312-50-P